DEPARTMENT OF ENERGY

National Nuclear Security Administration

Proposed Subsequent Arrangement

AGENCY: National Nuclear Security Administration, Department of Energy.

ACTION: Proposed subsequent arrangement to retransfer U.S.-obligated nuclear material from Australia to France for reprocessing.

SUMMARY: This document is being issued under the authority of the Atomic Energy Act of 1954, as amended. The Department of Energy is providing notice of a proposed subsequent arrangement under the Agreement between the Government of the United States of America and the Government of Australia Concerning Peaceful Uses of Nuclear Energy (U.S.-Australia 123 Agreement) and the Agreement for Cooperation in the Peaceful Uses of Nuclear Energy between the United States of America and the European Atomic Energy Community (Euratom). (U.S.-Euratom 123 Agreement).

DATES: This subsequent arrangement will take effect no sooner than May 23, 2025 and after 15 days of continuous session of Congress has elapsed, beginning the day after the date on which the report required under section 131b.(1) of the Atomic Energy Act of 1954, as amended, is submitted to the House Foreign Affairs Committee and the Senate Foreign Relations Committee. The two time periods referred to above may run concurrently.

FOR FURTHER INFORMATION CONTACT: Ms. Caterina Fox, Director, Office of Nonproliferation Policy, National Nuclear Security Administration, Department of Energy, 1000 Independence Avenue SW, Washington, DC 20585, telephone: (202) 586-4460, or email: caterina.fox@nnsa.doe.gov.

SUPPLEMENTARY INFORMATION: This subsequent arrangement details the retransfer of 186 spent U-Si fuel assemblies containing 425,145.70g of U.S.-obligated low enriched uranium of which 47,711.91g is enriched in the isotope U-235, an enrichment level of 11.22%. In addition to the low-enriched uranium, the spent fuel assemblies also contain 4000.63g of U.S.-obligated plutonium. The spent fuel assemblies were irradiated at the Open Pool Australian Lightwater (OPAL) research reactor at the Australian Nuclear Science and Technology Organisation (ANSTO) in Lucas Heights, New South Wales, Australia.

The spent fuel is being retransferred to Orano S.A. at the La Hague reprocessing plant in France; a member of Euratom. At La Hague, the material is intended for recovery and reprocessing. Any uranium and plutonium recovered during the reprocessing will be titled over to Orano S.A. The plutonium recovered is to be incorporated into mixed oxide fuel assemblies for use in civilian nuclear power plants in France or in the European Union or until it is disposed of in accordance with terms that are acceptable to the United States.

In accordance with section 131 of the Atomic Energy Act of 1954, as amended, I have determined that this subsequent arrangement concerning the retransfer of U.S.-obligated special nuclear material for reprocessing will not be inimical to the common defense and security of the United States of America. Furthermore, I have made the judgement that it will not result in a significant increase in the risk of proliferation beyond that which exists now, or which existed at the time approval was requested.

Signing Authority

This document of the Department of Energy of the Department of Energy was signed on April 30, 2025, by Teresa Robbins, Acting Under Secretary for Nuclear Security and Administrator, National Nuclear Security Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 5, 2025.
Treena V. Garrett,
Federal Register Liaison Officer, U.S. Department of Energy.

[FR Doc. 2025-08064 Filed 5-7-25; 8:45 am]

BILLING CODE 6450-01-P